ENVIRONMENTAL PROTECTION AGENCY

[EPA-HQ-OPP-2009-0215; FRL-8409-3]

Exposure Modeling Public Meeting; Notice of Public Meeting

AGENCY: Environmental Protection Agency (EPA).

ACTION: Notice.

SUMMARY: This notice announces a 1-day public meeting on May 4, 2009, of the Exposure Modeling Public Meeting (EMPM). The location, time, and tentative agenda topics are provided in this notice. This meeting will present and discuss current issues in modeling pesticide fate, transport, and exposure in support of risk assessment in a regulatory context.

DATES: The meeting will be held on May 4, 2009, from 9 a.m. to 4 p.m.

Requests to participate in the meeting, identified by docket identification (ID) number EPA-HQ-OPP-2009-0215, must be received on or before April 27, 2009.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Bldg.), 1st Floor South Conference Room, 2777 S. Crystal Dr., Arlington, VA 22202.

FOR FURTHER INFORMATION CONTACT: Tiffany Mason, Environmental Fate and Effects Division, Office of Pesticide Programs, Environmental Protection Agency, 1200 Pennsylvania Ave., NW., Washington, DC 20460-0001; telephone number: (703) 347-8648; fax number: (703) 308-6181; e-mail address: mason.tiffany@epa.gov.

SUPPLEMENTARY INFORMATION:

I. General Information

A. Does This Action Apply to Me?

You may be potentially affected by this action if you are required to conduct testing of chemical substances under the Toxic Substances Control Act (TSCA), the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket ID number EPA-HQ-OPP-2009-0215. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

On a triannual interval, an EMPM will be held for presentation and discussion of current issues in modeling pesticide fate, transport, and exposure in support of risk assessment in a regulatory context. Meeting dates and abstract requests are announced through the “empmlist” forum on the LYRIS list server at https://lists.epa.gov/read/all_forums/.

III. How Can I Request To Participate in this Meeting?

You may submit a request to participate in this meeting to the person listed under FOR FURTHER INFORMATION CONTACT. Do not submit any information in your request that is considered confidential business information (CBI). Requests to participate in the meeting, identified by docket ID number EPA-HQ-OPP-2009-0215, must be received on or before April 27, 2009.

IV. What Are the Tentative Topics for the Meeting?

A. General Theme

A variety of topics will be presented at this meeting.

B. Specific Topics

1. Analysis of Vegetative Filter Strip Models.

2. Pyrethroid Turf Runoff and Building Material Washoff Studies.

3. Kow-Based Aquatic Bioaccumulation Model (KABAM).

List of Subjects

Environmental protection, KABAM, Modeling, Pesticides and pests, Pyrethroids, Vegetative filter strips.

Dated: April 2, 2009.
Arthur Jean Williams,
Acting Director, Environmental Fate and Effects Division, Office of Pesticide Programs.

[FR Doc. E9-8118 Filed 4-9-09; 8:45 am]

BILLING CODE 6560-50-S